DEPARTMENT OF HOMELAND SECURITY

Coast Guard

33 CFR Part 117

[Docket No. USCG-2018-0754]

Drawbridge Operation Regulation; Saugatuck River, Saugatuck, CT

AGENCY: Coast Guard, DHS.

ACTION: Notice of deviation from drawbridge regulation.

SUMMARY: The Coast Guard has issued a temporary deviation from the operating schedule that governs the Metro-North SAGA Bridge across the Saugatuck River, mile 1.1 at Saugatuck, Connecticut. The deviation is necessary to conduct bridge maintenance and repair work. The deviation allows the bridge to remain closed to maritime navigation on weekdays and requires the bridge to open with 24 hours advance notice on weekends.

DATES: This deviation is effective from 8 a.m. on September 17, 2018, to 8 a.m. on October 29, 2018.

ADDRESSES: The docket for this deviation, USCG-2017-0754, is available at http://www.regulations.gov. Type the docket number in the “SEARCH” box and click “SEARCH”. Click on Open Docket Folder on the line associated with this deviation.

FOR FURTHER INFORMATION CONTACT: If you have questions on this temporary deviation, call or email Jeffrey Stieb, Bridge Management Specialist, First Coast Guard District, Coast Guard; telephone 617-223-8364, email Jeffrey.D.Stieb@uscg.mil.

SUPPLEMENTARY INFORMATION: The owner of the bridge, Connecticut Department of Transportation, requested a temporary deviation from the normal operating schedule in order to conduct bridge maintenance and repair work. The Metro-North SAGA Railroad Bridge across the Saugatuck River, mile 1.1, at Saugatuck, Connecticut has a vertical clearance of 13 feet at mean high water in the closed position. The existing bridge operating regulations are listed at 33 CFR 117.221(b).

Under this temporary deviation, from 8 a.m. on Monday, September 17, 2018, to 8 a.m. on Monday, October 29, 2018, the Metro-North SAGA Bridge may operate as follows: From 8 a.m. Monday to 3 p.m. Friday, the draw may remain closed to marine navigation. From 3 p.m. Friday to 8 a.m. Monday, the draw shall open with 24 hours advance notice.

The waterway is transited by seasonal recreational vessels of various sizes. Vessels that can pass under the bridge in the closed position may do so at any time. The bridge will not be able to open for emergencies. The Department of Transportation has coordinated the closure with the harbormaster and has posted notice of the closure on the Connecticut Department of Transportation Construction News website. The Coast Guard will also inform the users of the waterway through our Local and Broadcast Notices to Mariners of the change in operating schedule for the bridge so that vessel operators can arrange their transits to minimize any impact caused by this temporary deviation.

In accordance with 33 CFR 117.35(e), the drawbridge must return to its regular operating schedule immediately at the end of the effective period of this temporary deviation. This deviation from the operating regulations is authorized under 33 CFR 117.35.

Dated: August 23, 2018.
C.J. Bisignano,
Supervisory Bridge Management Specialist, First Coast Guard District.

[FR Doc. 2018-18650 Filed 8-28-18; 8:45 am]

BILLING CODE 9110-04-P